DEPARTMENT OF AGRICULTURE

Foreign Agricultural Service

Meeting on Agreement Between the United States and the European Community on Sanitary Measures To Protect Public and Animal Health in Trade in Live Animals and Animal Products

AGENCY: Foreign Agricultural Service, USDA.

ACTION: Notice of meeting.

SUMMARY: The Foreign Agricultural Service (FAS) is informing the public of a meeting to be held on May 15, 2001, at the U.S. Department of Agriculture (USDA) to discuss the general U.S. negotiating objectives, particularly item-specific export priorities under the U.S. and European Community (EC) Veterinary Equivalency Agreement (VEA). This would include specific sanitary measures and certification issues that currently impede or prohibit trade or potential regulatory changes that would facilitate trade in live animals and animal products between the United States and the EC. U.S. Government agencies, including the Food Safety Inspection Service, Agricultural Marketing Service, Animal and Plant Health Inspection Service, USDA. Food and Drug Administration, National Marine Fisheries Service, and Office of the U.S. Trade Representative will be participating in the meeting.

DATES: The meeting will be held on May 15, 2001, from 9 a.m. to 11 a.m. This meeting may close early if all business is finished.

ADDRESSES: The meeting will be held at the U.S. Department of Agriculture, 1400 Independence Avenue SW., South Building, Washington, DC 20250.

FOR FURTHER INFORMATION CONTACT: Ms. Catherine Otte or Mr. Bobby Richey at (202) 720-1340.

SUPPLEMENTARY INFORMATION: In July 20, 1999, the United States and the EC signed the Veterinary Equivalency Agreement. The Agreement entered into force on August 1, 1999, and covers more than $3 billion in combined U.S. and EC live animal and animal product trade.

The objective of the Agreement is to facilitate trade in live animals and animal products between the EC and United States by establishing a mechanism for the recognition of equivalence of sanitary measures maintained by each Party consistent with the protection of public and animal health and to improve communication and cooperation on sanitary measures.

The Agreement calls for a Joint Management Committee to meet each year and identify progress and set priorities on outstanding issues for the future. Prior to the Joint Management Committee meeting currently scheduled for June 2001, the U.S. Government would like to receive input from U.S. industries on priority areas for immediate and future attention. The U.S. Government is requesting input on general U.S. negotiating objectives, particularly item-specific export priorities under the VEA. This would include specific sanitary measures and certification issues that currently impede or prohibit trade or potential regulatory changes that would facilitate trade in live animals and animal products. Input received will be considered by the Executive Branch in formulating U.S. positions and objectives in this area.

A complete copy of the agreement can be viewed on the FDA International Cooperative Agreements Web Site at: http://www.fda.gov/oia/default.htm. The document is the second listed under the European Community and is titled “Veterinary Equivalence Framework Agreement.”

Public Meeting

The public meeting will take place at the U.S. Department of Agriculture, 1400 Independence Avenue SW., Washington, DC, back of the cafeteria, South Building. All visitors should enter at Wing 2 on the C Street side of the South Building. To accommodate all public meeting participants, we request that individuals planning to attend should so inform the Department in advance by contacting: Foreign Agricultural Service, International Trade Policy, Europe, Africa and Middle East Division, Stop 1024, South Building, 1400 Independence Avenue SW., Washington, DC 20250; phone: (202) 720-1340; facsimile: (202) 690-2079. Please indicate the organization represented, if any, including the names and titles of individuals attending.

Information on Services for Individuals With Disabilities

For information on facilities or services for individuals with disabilities, or to request special assistance at the meeting, contact FAS at the above location as soon as possible.

Signed at Washington, DC on May 2, 2001.
Mattie R. Sharpless,
Acting Administrator.

[FR Doc. 01-11426 Filed 5-4-01; 8:45 am]

BILLING CODE 3410-10-M